DEPARTMENT OF HEALTH AND HUMAN SERVICES

Centers for Medicare & Medicaid Services

[Document Identifier: CMS-10366]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New collection (request for new OMB control number); Title of Information Collection: Nursing Home Quality Improvement Questionnaire; Use: The information obtained via the Nursing Home Quality Improvement Questionnaire will be utilized by CMS staff in the Survey & Certification Group, Division of Nursing Homes, to identify areas for quality assurance and performance improvement (QAPI) technical assistance (TA) that will be useful to nursing facilities as they prepare to meet the new QAPI regulation that was mandated as part of the Affordable Care Act. Specifically, the information collected through the use of the questionnaire will be used to establish a baseline of QAPI practices in nursing homes, gather information on the challenges and barriers to implementing effective QAPI programs, assess the development of QAPI systems, determine what types of TA to make available to nursing homes, and assess the potential impact of TA in advancing QAPI in nursing homes; Form Number: CMS-10366 (OCN 0938-New); Frequency: Once; Affected Public: Private sector (business or other for-profits and not-for-profit institutions) and State, Local or Tribal Governments; Number of Respondents: 4,200; Total Annual Responses: 4,200; Total Annual Hours: 1,386. (For policy questions regarding this collection contact Debra Lyons at (410) 786-6780. For all other issues call (410) 786-1326.)

To obtain copies of the supporting statement and any related forms for the proposed paperwork collections referenced above, access CMS' Web Site address at http://www.cms.hhs.gov/PaperworkReductionActof1995, or Email your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by January 17, 2012:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number _____, Room C4-26-05, 7500 Security Boulevard, Baltimore, Maryland 21244-1850.

Dated: November 15, 2011.
Martique Jones,
Director, Regulations Development Group, Division B, Office of Strategic Operations and Regulatory Affairs.

[FR Doc. 2011-29840 Filed 11-17-11; 8:45 am]

BILLING CODE 4120-01-P